DEPARTMENT OF COMMERCE

International Trade Administration

[A-583-816]

Stainless Steel Butt-Weld Pipe Fittings from Taiwan: Extension of Time Limit for the Preliminary Results of the Antidumping Duty Administrative Review

AGENCY: Import Administration, International Trade Administration, Department of Commerce.

EFFECTIVE DATE: insert date published in the Federal Register.

FOR FURTHER INFORMATION CONTACT: Joe Welton, AD/CVD Enforcement, Group III, Office 9, Import Administration, International Trade Administration, U.S. Department of Commerce, 14th Street and Constitution Avenue, NW, Washington DC, 20230, telephone (202) 482-0165.

SUPPLEMENTARY INFORMATION:

Background

On June 2, 2003, the Department of Commerce (“Department”) published a notice of opportunity to request an administrative review of the antidumping duty order on stainless steel butt-weld pipe fittings from Taiwan for the period June 1, 2002, through May 31, 2003. See Notice of Opportunity to Request Administrative Review of Antidumping or Countervailing Duty Order, Finding, or Suspended Investigation, 68 FR 32727 (June 2, 2003). On June 30, 2003, Markovitz Enterprises, Inc. (Flowline Division), Shaw Alloy Piping Products Inc., Gerlin, Inc., and Taylor Forge Stainless, Inc. (“petitioners”) requested an antidumping duty administrative review for the following companies: Ta Chen Stainless Pipe Co., Ltd. (“Ta Chen”), Liang Feng Stainless Steel Fitting Co., Ltd. (“Liang Feng”), and Tru-Flow Industrial Co., Ltd. (“Tru-Flow”), and PFP Taiwan Co., Ltd., (“PFP”) for the period June 1, 2002, through May 31, 2003. On June 30, 2003, Ta Chen requested an administrative review of its sales to the United States during the period of review (“POR”). On July 29, 2003, the Department published in the Federal Register a notice of initiation of this antidumping duty administrative review for the period June 1, 2002, through May 31, 2003. See Notice of Initiation of Antidumping and Countervailing Duty Administrative Reviews and Request for Revocation In Part, 68 FR 44524 (July 29, 2003). The preliminary results are currently due no later than March 1, 2004.

Extension of Time Limit for Preliminary Results

Section 751(a)(3)(A) of the Tariff Act of 1930, as amended (“the Act”), states that the administering authority shall make a preliminary determination within 245 days after the last day of the month in which occurs the anniversary of the date of publication of the order, finding, or suspension agreement for which the review under paragraph (1) is requested. If it is not practicable to complete the review within the foregoing time, the administering authority may extend that 245 day period to 365 days. Completion of the preliminary results within the 245 day period is impracticable for the following reasons: (1) this review involves certain complex constructed export price (“CEP”) adjustments including, but not limited to CEP profit and CEP offset; (2) this review involves complex warehouse expenses in the United States including, but not limited to inland freight and inventory; and (3) this review involves complex affiliation issues.

Because it is not practicable to complete this review within the time specified under the Act, we are extending the due date for the preliminary results by 90 days until May 30, 2004, in accordance with section 751(a)(3)(A) of the Act. The final results continue to be due 120 days after the publication of the preliminary results.

Dated: February 25, 2004.
Joseph A. Spetrini,
Deputy Assistant Secretary for Import Administration, Group III.

[FR Doc. 04-4732 Filed 3-2-04; 8:45 am]

BILLING CODE 3510-DS-S